DEPARTMENT OF ENERGY

Federal Energy Regulatory Commission

Combined Notice of Filings #1

Take notice that the Commission received the following electric corporate filings:

Docket Numbers: EC11-68-000.

Applicants: Gila River Power, L.P., Union Power Partners, L.P., Entegra Power Services LLC, Gila River Energy Supply LLC, Merrill Lynch GENCO II, LLC, Entegra Power Group LLC.

Description: Joint Application For Order Authorizing Disposition of Jurisdictional Facilities Under Section 203 of the FPA and Request for Waivers and Expedited Action of Entegra Power Group LLC, et al.

Filed Date: 04/15/2011.

Accession Number: 20110415-5331.

Comment Date: 5 p.m. Eastern Time on Friday, May 06, 2011.

Take notice that the Commission received the following electric rate filings:

Docket Numbers: ER10-1975-002; ER10-1974-002.

Applicants: North Jersey Energy Associates, L.P., Northeast Energy Associates, L.P.

Description: Notice of Change in Status of North Jersey Energy Associates, a Limited Partnership and Northeast Energy Associates, A Limited Partnership.

Filed Date: 04/15/2011.

Accession Number: 20110415-5343.

Comment Date: 5 p.m. Eastern Time on Friday, May 06, 2011.

Docket Numbers: ER11-1831-002.

Applicants: Columbus Southern Power Company.

Description: Columbus Southern Power Company submits tariff filing per 35: 20110415 CSP AEP Op Co MBR Conc to be effective 10/8/2010.

Filed Date: 04/15/2011.

Accession Number: 20110415-5231.

Comment Date: 5 p.m. Eastern Time on Friday, May 06, 2011.

Docket Numbers: ER11-1833-002.

Applicants: Indiana Michigan Power Company.

Description: Indiana Michigan Power Company submits tariff filing per 35: 20110415 IN MI AEP Op Co MBR Conc to be effective 10/8/2010.

Filed Date: 04/15/2011.

Accession Number: 20110415-5233.

Comment Date: 5 p.m. Eastern Time on Friday, May 06, 2011.

Docket Numbers: ER11-1834-002.

Applicants: Kentucky Power Company.

Description: Kentucky Power Company submits tariff filing per 35: 20110415 KPCo MBR Conc to be effective 10/8/2010.

Filed Date: 04/15/2011.

Accession Number: 20110415-5236.

Comment Date: 5 p.m. Eastern Time on Friday, May 06, 2011.

Docket Numbers: ER11-1835-003.

Applicants: Kingsport Power Company.

Description: Kingsport Power Company submits tariff filing per 35: 20110415 KgPCO AEP Op Co MBR Conc to be effective 10/8/2010.

Filed Date: 04/15/2011.

Accession Number: 20110415-5238.

Comment Date: 5 p.m. Eastern Time on Friday, May 06, 2011.

Docket Numbers: ER11-1837-002.

Applicants: Ohio Power Company.

Description: Ohio Power Company submits tariff filing per 35: 20110415 Ohio Power AEP Op Co MBR Conc to be effective 10/8/2010.

Filed Date: 04/15/2011.

Accession Number: 20110415-5241.

Comment Date: 5 p.m. Eastern Time on Friday, May 06, 2011.

Docket Numbers: ER11-1838-003.

Applicants: Wheeling Power Company.

Description: Wheeling Power Company submits tariff filing per 35: 20110415 WPCo AEP Op Co MBR Conc to be effective 10/8/2010.

Filed Date: 04/15/2011.

Accession Number: 20110415-5245.

Comment Date: 5 p.m. Eastern Time on Friday, May 06, 2011.

Docket Numbers: ER11-2482-000; ER11-2483-000; ER11-2484-000; ER11-2485-000; ER11-2486-000; ER11-2487-000; ER11-2488-000.

Applicants: Casselman Windpower LLC, Hardscrabble Wind Power LLC, Lempster Wind, LLC, Locust Ridge Wind Farm, LLC, Locust Ridge Wind Farm II, LLC, Providence Heights Wind, LLC, Streator-Cayuga Ridge Wind Power, LLC.

Description: Letter providing Category 1 Seller representations.

Filed Date: 04/15/2011.

Accession Number: 20110415-5330.

Comment Date: 5 p.m. Eastern Time on Friday, May 06, 2011.

Docket Numbers: ER11-3370-000.

Applicants: Phalanx Energy Services, LLC.

Description: Phalanx Energy Services, LLC submits tariff filing per 35.12: Phalanx Energy Services, LLC Market-Based Rate Application to be effective 5/1/2011.

Filed Date: 04/15/2011.

Accession Number: 20110415-5221.

Comment Date: 5 p.m. Eastern Time on Friday, May 06, 2011.

Docket Numbers: ER11-3371-000.

Applicants: PJM Interconnection, L.L.C.

Description: PJM Interconnection, L.L.C. submits tariff filing per 35.13(a)(2)(iii: Queue No. W1-124—Original Service Agreement No. 2840 WMPA to be effective 3/17/2011.

Filed Date: 04/15/2011.

Accession Number: 20110415-5250.

Comment Date: 5 p.m. Eastern Time on Friday, May 06, 2011.

Docket Numbers: ER11-3372-000.

Applicants: PJM Interconnection, L.L.C.

Description: PJM Interconnection, L.L.C. submits tariff filing per 35.13(a)(2)(iii: Queue No. W1-119—Original Service Agreement No. 2838 to be effective 3/17/2011.

Filed Date: 04/15/2011.

Accession Number: 20110415-5279.

Comment Date: 5 p.m. Eastern Time on Friday, May 06, 2011.

Take notice that the Commission received the following electric securities filings:

Docket Numbers: ES11-21-000.

Applicants: Old Dominion Electric Cooperative, Inc.

Description: Amendment to Application of Old Dominion Electric Cooperative.

Filed Date: 04/18/2011.

Accession Number: 20110418-5085.

Comment Date: 5 p.m. Eastern Time on Thursday, April 28, 2011.

Take notice that the Commission received the following land acquisition reports:

Docket Numbers: LA11-1-000.

Applicants: Canandaigua Power Partners, LLC, Canandaigua Power Partners II, LLC, Evergreen Wind Power, LLC, Evergreen Wind Power III, LLC, Evergreen Wind Power V, LLC, First Wind Energy Marketing, LLC, Milford Wind Corridor Phase I, LLC, Milford Wind Corridor Phase II, LLC, Stetson Wind II, LLC.

Description: Report of Canandaigua Power Partners II, LLC, et al.

Filed Date: 04/15/2011.

Accession Number: 20110415-5340.

Comment Date: 5 p.m. Eastern Time on Friday, May 06, 2011.

Take notice that the Commission received the following open access transmission tariff filings:

Docket Numbers: OA07-19-007; OA07-43-008; ER07-1171-008.

Applicants: Arizona Public Service Company.

Description: Arizona Public Service Company submits its annual compliance report on penalty assessments and distributions.

Filed Date: 04/18/2011.

Accession Number: 20110418-5117.

Comment Date: 5 p.m. Eastern Time on Monday, May 09, 2011.

Docket Numbers: OA07-53-007.

Applicants: Progress Energy, Inc.

Description: Annual Penalty Revenues Refund Report of Florida Power Corporation et al.

Filed Date: 04/18/2011.

Accession Number: 20110418-5121.

Comment Date: 5 p.m. Eastern Time on Monday, May 09, 2011.

Docket Numbers: OA09-22-003.

Applicants: Florida Power & Light Company.

Description: Annual Compliance Report Regarding Penalties for Unreserved Use of Florida Power & Light Company.

Filed Date: 04/18/2011.

Accession Number: 20110418-5126.

Comment Date: 5 p.m. Eastern Time on Monday, May 09, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: April 18, 2011.
Nathaniel J. Davis, Sr.,
Deputy Secretary.

[FR Doc. 2011-9807 Filed 4-21-11; 8:45 am]

BILLING CODE 6717-01-P